DEPARTMENT OF HOMELAND SECURITY

Federal Emergency Management Agency

[Docket ID FEMA-2009-0001]

Agency Information Collection Activities: Proposed Collection; Comment Request, 1660-0100; General Admissions Application (Long and Short) and Stipend Forms

AGENCY: Federal Emergency Management Agency, DHS.

ACTION: Notice; 60-day notice and request for comments; revision of a currently approved information collection; OMB No. 1660-0100; FEMA Forms 064-0-1 (replaces FEMA Form 75-5), General Admissions Application; 064-0-2 (replaces FEMA Form 75-5a), General Admissions Application Short-Form; 106-0-1 (replaces FEMA Form 75-3), Student Stipend Agreement; and 106-0-2 (replaces FEMA For 75-3a), Student Stipend Agreement (Amendment); FEMA Form 064-0-3 (replaces FEMA Form 95-22) National Fire Academy Executive Fire Officer Program Application Admission.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning an extension of the existing authorization to collect information for admissions and reimbursement for courses and programs offered by the Federal Emergency Management Agency.

DATES: Comments must be submitted on or before April 26, 2010.

ADDRESSES: To avoid duplicate submissions to the docket, please use only one of the following means to submit comments:

(1) Online. Submit comments at http://www.regulations.gov under docket ID FEMA-2009-0001. Follow the instructions for submitting comments.

(2) Mail. Submit written comments to Office of Chief Counsel, Regulation and Policy Team, DHS/FEMA, 500 C Street, SW., Room 835, Wash, DC 20472-3100.

(3) Facsimile. Submit comments to (703) 483-2999.

(4) E-mail. Submit comments to FEMA-POLICY@dhs.gov. Include docket ID FEMA-2009-0001 in the subject line.

All submissions received must include the agency name and docket ID. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

FOR FURTHER INFORMATION CONTACT: Contact JoAnn Boyd, Admissions Specialist, United States Fire Administration, 301-447-1415 for additional information. You may contact the Office of Records Management for copies of the proposed collection of information at facsimile number (202) 646-3347 or e-mail address: FEMA-Information-Collections@dhs.gov.

SUPPLEMENTARY INFORMATION: The Robert T. Stafford Disaster Relief and Emergency Assistance Act (Stafford Act), 42 U.S.C. 5121-5207, authorizes the President to establish a disaster preparedness program that includes the use of services of all appropriate agencies, including training and exercises. Under the authority of Executive Order 12127 and Executive Order 12148, as amended, the Secretary of the Department of Homeland Security is responsible for carrying out the mandates of the Stafford Act. The Federal Emergency Management Agency (FEMA) is charged with carrying out this mandate and collects information to determine eligibility for courses and programs offered by FEMA, to provide a consolidated record of all FEMA training taken by a student, to provide a transcript which can be used by the student in requesting college credit or continuing education units for courses completed, and to determine eligibility for student stipends.

Collection of Information

Title: General Admissions Application (Long and Short) and Stipend Forms.

Type of Information Collection: Revision of a currently approved information collection.

OMB Number: 1660-0100.

Form Titles and Numbers: FEMA Forms 064-0-1 (replaces FEMA Form 75-5), General Admissions Application; 064-0-2 (replaces FEMA Form 75-5a), General Admissions Application Short-Form; 106-0-1 (replaces FEMA Form 75-3), Student Stipend Agreement; and 106-0-2 (replaces FEMA For 75-3a), Student Stipend Agreement (Amendment); FEMA Form 064-0-3 (replaces FEMA Form 95-22) National Fire Academy Executive Fire Officer Program Application Admission.

Abstract: FEMA personnel use the application forms to admit applicants to courses and programs offered at National Emergency Training Center (NETC), the Noble Training Facility (NTF), and various locations throughout the United States. The FEMA Form 064-0-1, General Admissions Application is the regular form and FEMA Form 064-0-2 is the short form used when FEMA personnel are not required to determine eligibility for courses and programs. FEMA Form 064-0-3 and the requested supporting documentation Letter of Intent, Resume, Letter of Recommendation, Diploma Photocopy, and Organizational Chart is used to select applicants to the Executive Fire Officer Program. FEMA Forms 106-0-1 and 106-0-2, Student Stipend Agreement and Student Stipend Agreement (Amendment), respectively, are provided to individuals who have been accepted to attend certain courses for which a stipend is paid. The 106-0-2 form is used when there is a supplemental reimbursement request for expenses that occur after arrival at the training site.

Affected Public: Individuals or households; Businesses or other for-profit; State, local or Tribal Government; Not-for-profit institutions; Federal Government.

Estimated Total Annual Burden Hours: 12,350 Hours.

Estimated Annualized Burden Hours and Costs
Type of respondent | Form name/form No. | Number of respondents | Number of responses per respondent | Total number of responses | Avg. burden per response (in hours) | Total annual burden (in hours) | Avg. hourly wage rate* | Total annual respondent cost
State, local, or Tribal Government; Business or other for profit; Not-for-profit Institutions, Federal Government | General Admissions Application/FEMA Form 064-0-1 | 25,000 | 1 | 25,000 | .15 (9 minutes) | 3,750 | $38.46 | $144,225
State, local, or Tribal Government; Business or other for profit; Not-for-profit Institutions, Federal Government | General Admissions Application Short Form/FEMA Form 064-0-2 | 75,000 | 1 | 75,000 | 0.1 (6 minutes) | 7,500 | 38.46 | 288,450
State, local, or Tribal Government; Business or other for profit; Not-for-profit Institutions, Federal Government | National Fire Academy Executive Fire Officer Program Application Admission/FEMA Form 064-0-3 | 400 | 1 | 400 | 1 | 400 | 47.70 | 19,080
State, local, or Tribal Government; Business or other for profit; Not-for-profit Institutions, Federal Government | Additional Documentation: Letter of Intent, Resume, Letter of Recommendation, Diploma Photocopy, Organizational Chart/No Form | 400 | 1 | 400 | 1 | 400 | 47.70 | 19,080
State, local, or Tribal Government; Business or other for profit; Not-for-profit Institutions, Federal Government | Student Stipend Agreement/FEMA Form 106-0-1 | 8,000 | 1 | 8,000 | 0.033 (2 minutes) | 267 | 38.46 | 10,269
State, local, or Tribal Government; Business or other for profit; Not-for-profit Institutions, Federal Government | Student Stipend Agreement (Amendment)/FEMA Form 106-0-2 | 1,000 | 1 | 1,000 | .033 (2 minutes) | 33 | 38.46 | 1,269
Total |  | 109,800 |  | 109,800 |  | 12,350 |  | 482,373

Estimated Cost: There are no annual operation, maintenance, capital or start-up costs associated with this collection.

Comments

Comments may be submitted as indicated in the ADDRESSES caption above. Comments are solicited to (a) evaluate whether the proposed data collection is necessary for the proper performance of the agency, including whether the information will have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: February 5, 2010.
Larry Gray,
Director, Office of Records Management, Office of Management, Federal Emergency Management Agency, Department of Homeland Security.

[FR Doc. 2010-3604 Filed 2-23-10; 8:45 am]

BILLING CODE 9111-45-P